DEPARTMENT OF JUSTICE

Notice of Lodging of Consent Decree Under the Comprehensive Environmental Response, Compensation, and Liability Act

Notice is hereby given that on October 8, 2010, a proposed Consent Decree in United States of America v. AMETEK, Inc., et al., Civil Action No. 10-cv-5291, was lodged with the United States District Court for the Eastern District of Pennsylvania.

In this action the United States sought to recover from the defendants response costs incurred by the United States Environmental Protection Agency (“EPA”) and future costs in responding to releases or threatened releases of hazardous substances at or from the North Penn Area 2 Superfund Site, located in Hatfield Township, Montgomery County, Pennsylvania (the “Site”). The Consent Decree obligates AMETEK, Inc. and Penn Color, Inc., to perform remedial work at the Site and to reimburse EPA's past and future response costs related to the Site.

The Consent Decree requires the settling parties to pay to finance and perform remaining cleanup at the Site by establishing and maintaining a performance guarantee initially in the amount of $2,039,900.00. The Consent Decree also requires the settling parties to pay the EPA Hazardous Substance Superfund the principal sum of $185,522.41, due within thirty (30) days of entry of the Consent Decree. The settling parties are also required to pay all future response costs within thirty (30) days of receiving a bill from EPA.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States of America v. AMETEK, Inc., et al., Civil Action No. 10-cv-5291 (E.D.Pa.), D.J. Ref. 90-11-2-09537.

The Decree may be examined at the Office of the United States Attorney, Eastern District of Pennsylvania, 615 Chestnut Street, Suite 1250, Philadelphia, PA 19106, and at U.S. EPA Region III, 1650 Arch Street, Philadelphia, PA 19103. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.50 (25 cents per page reproduction cost) payable to the U.S. Treasury or, if by email or fax, forward a check in that amount to the Consent Decree Library at the stated address.

Maureen Katz,
Assistant Chief, Environmental Enforcement Section, Environment and Natural Resources Division.

[FR Doc. 2010-26138 Filed 10-15-10; 8:45 am]

BILLING CODE 4410-15-P